DEPARTMENT OF HEALTH AND HUMAN SERVICES

[Document Identifier: OS-0990-0302-60D]

Agency Information Collection Request. 60-Day Public Comment Request

AGENCY: Office of the Secretary, HHS.

Agency Information Collection Request. 60-Day Public Comment Request

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden. To obtain copies of the supporting statement and any related forms for the proposed paperwork collections referenced above, email your request, including your address, phone number, OMB number, and OS document identifier, to Sherette.funncoleman@hhs.gov, or call the Reports Clearance Office on (202) 690-6162. Written comments and recommendations for the proposed information collections must be directed to the OS Paperwork Clearance Officer at the above email address within 60-days.

Proposed Project: Medical Reserve Corps Unit Profile and Reports (Revision)—OMB No. 0990-0302—Office of the Secretary/Office of the Assistant Secretary for Health/Office of the Surgeon General/Division of Civilian Volunteer Medical Reserve Corps (OS/OASH/OSG/DCVMRC) is changed to Office of the Secretary/Office of the Assistant Secretary for Preparedness and Response/Office of Emergency Management/Division of the Civilian Volunteer Medical Reserve Corps this reorganization was effective as of 26 November 2014 as published in the Federal Register [FR Doc. 2014-28030 Filed 11-25-14; 8:45am].

Abstract: Medical Reserve Corps units are currently located in almost 1,000 communities across the United States, and represent a resource of more than 205,000 volunteers. In order to continue supporting the MRC units in communities across the United States, and to continue planning for future emergencies that are national in scope, detailed information about the MRC units, including unit demographics, contact information (regular and emergency), volunteer numbers, and information about activities is needed by the Division of Civilian Volunteer Medical Reserve Corps (DCVMRC). MRC Unit Leaders are asked to update this information on the MRC Web site at least quarterly, and to participate in a Technical Assistance Assessment at least annually. The MRC unit data collected has expanded to include a self-assessment tool for use by unit leaders to aid in developing their MRC unit. This OMB revision request is for 3 years.

Estimated Annualized Burden Table
Collection tool | Type of respondent | Number of respondents | Number of responses per respondent | Average burden hours per response | Total burden hours
Unit Profile | MRC Unit Leader | 1,000 | 4 | 30/60 | 2,000
TA Assessment | MRC Unit Leader | 1,000 | 1 | 1 | 1,000
Factors for Success | MRC Unit Leader | 1,000 | 4 | 30/60 | 2,000
Unit Activity Reporting | MRC Unit Leader | 1,000 | 4 | 15/60 | 1,000
Total |  |  |  |  | 6,000

Terry S. Clark,
Asst Information Collection Clearance Officer.

[FR Doc. 2015-20848 Filed 8-21-15; 8:45 am]

BILLING CODE 4150-47-P